DEPARTMENT OF COMMERCE

National Oceanic and Atmospheric Administration

RIN 0648-XN11

Notification of Stock Status Determination for Atlantic Highly Migratory Species Shortfin Mako Shark

AGENCY: National Marine Fisheries Service (NMFS), National Oceanic and Atmospheric Administration (NOAA), Commerce.

ACTION: Notification of determination overfishing and approaching an overfished condition.

SUMMARY: This action serves as a notice that NMFS, on behalf of the Secretary of Commerce (Secretary), has determined that overfishing is occurring on Atlantic highly migratory species shortfin mako and the stock is approaching an overfished condition. The Secretary is required to take action within 1 year following determination that: a stock is overfished; a stock is approaching an overfished condition; or existing remedial action taken to end overfishing or rebuild an overfished stock has not resulted in adequate progress.

FOR FURTHER INFORMATION CONTACT: Mark Nelson, telephone: (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, notifies fishery management councils whenever it determines: overfishing is occurring; a stock or stock complex is approaching an overfished condition; a stock or stock complex is overfished; or existing action taken to end previously identified overfishing or rebuilding a previously identified overfished stock or stock complex has not resulted in adequate progress.

For a fishery determined to be overfished or approaching an overfished condition, NMFS also requests that the appropriate Council, or the Secretary, for fisheries under section 302(a)(3), take action to end overfishing in the fishery and to implement conservation and management measures to rebuild affected stocks. Councils (or the Secretary) receiving notification that a fishery is overfished must, within 1 year of notification, prepare an FMP, amend an existing FMPs or propose regulations to end overfishing and rebuild affected stocks in accordance with 16 U.S.C. 1854(e)(3)-(4) as implemented by 50 CFR 600.310(j)(2)(ii). If a stock is approaching an overfished condition the Council (or the Secretary) must take similar action, within 1 year of notification, to prevent overfishing. When developing the foregoing remedial actions Councils (or the Secretary) should ensure that such actions address the requirements to amend the FMP for each affected stock or stock complex to establish a mechanism for specifying and actually specify Annual Catch Limits (ACLs) and Accountability Measures (AMs) to prevent overfishing by 2010 in accordance with 16 U.S.C. 1853(a)(16) and 50 CFR 600.310(j)(2)(i).

Based on the best available science, the Secretary has determined, effective December 31, 2008, that overfishing is occurring on Atlantic highly migratory species shortfin mako and the stock is approaching an overfished condition.

As noted above, within 1 year of determination that a fishery is overfished the respective Council (or the Secretary) must take remedial action in response to the determination, to end overfishing. Such action must be submitted to NMFS within 1 year of notification and may be in the form of a new fishery management plan (FMP), an FMP amendment, or proposed regulations. In addition, for the fisheries experiencing overfishing, the responsible Councils (or the Secretary) must propose and NMFS must adopt mechanisms in the applicable FMPs for specification of and actually specify effective ACLs and AMs by fishing year 2010 to prevent overfishing.

Dated: June 15, 2009.
Alan D. Risenhoover,
Director, Office of Sustainable Fisheries, National Marine Fisheries Service.

[FR Doc. E9-14489 Filed 6-18-09; 8:45 am]

BILLING CODE 3510-22-S